DEPARTMENT OF HEALTH AND HUMAN SERVICES

Meeting of the President's Council on Fitness, Sports, and Nutrition

AGENCY: President's Council on Fitness, Sports, and Nutrition, Office of the Assistant Secretary for Health, Office of the Secretary, Department of Health and Human Services.

ACTION: Notice of meeting.

SUMMARY: As stipulated by the Federal Advisory Committee Act, the U.S. Department of Health and Human Services (DHHS) is hereby giving notice that the President's Council on Fitness, Sports, and Nutrition (PCFSN) will hold a meeting (Webinar format only). The meeting will be open to the public. Registration is required.

DATES: December 13, 2012 at 3:00 p.m.-4:00 p.m. EST.

ADDRESSES: Register for the Webinar meeting at: www.health.gov/PAguidelines.

FOR FURTHER INFORMATION CONTACT: Megan Nechanicky, MS, RD, Oak Ridge Institute for Science and Education Fellow, President's Council on Fitness, Sports, and Nutrition, Department of Health and Human Services, 1101 Wootton Parkway, Suite 560, Rockville, MD 20852. Phone: (240) 276-9869.

SUPPLEMENTARY INFORMATION: The PCFSN was established under Executive Order 13265, dated June 6, 2002, as amended by Executive Order 13545, dated June 22, 2010. The Council works to expand interest in and awareness of regular physical activity, fitness, sports participation, and good nutrition for Americans of all ages by encouraging the development, improvement, or enhanced coordination of programs that address physical activity and good nutrition. In performing its functions, the Council will take into account the Federal Dietary Guidelines for Americans and the Physical Activity Guidelines for Americans. The Council is required to meet, at a minimum, one time per fiscal year.

The Council will meet on December 13, 2012, to receive the draft Physical Activity Guidelines for Americans Mid-course Report for deliberation and approval. The Physical Activity Guidelines Mid-course Report will complement the 2008 Physical Activity Guidelines for Americans; The Mid-course Report is expected to be released in 2013.

The December 13, 2012, meeting is open to the public via a webinar format. Every effort will be made to provide reasonable accommodations for persons with disabilities and/or special needs who wish to attend the meeting. Persons with disabilities and/or special needs should call (240) 276-9869 no later than close of business on December 7, 2012, to request accommodations.

Dated: November 7, 2012.
Shellie Y. Pfohl,
Executive Director, President's Council on Fitness, Sports and Nutrition.

[FR Doc. 2012-28781 Filed 11-27-12; 8:45 am]

BILLING CODE 4150-35-P